DEPARTMENT OF COMMERCE

International Trade Administration

A-580-807

Polyethylene Terephthalate Film, Sheet, and Strip from the Republic of Korea: Final Results of Antidumping Duty Changed Circumstances Review and Reinstatement of the Antidumping Duty Order

AGENCY: Import Administration, International Trade Administration, Department of Commerce.

SUMMARY: On October 2, 2007 the Department of Commerce (the Department) published the preliminary results of the changed circumstances review and intent to reinstate Kolon Industries, Inc. (Kolon) in the antidumping duty order on polyethylene terephthalate film, sheet and strip (PET film) from the Republic of Korea (Korea). See Polythylene Terephthalate Film Sheet and Strip from the Republic of Korea: Preliminary Results of Changed Circumstances Review and Intent to Reinstate Kolon Industries, Inc. in the Antidumping Order, 72 FR 56048 (October 2, 2007) (Preliminary Results). On February 6, 2008 we extended the time frame for completion of this changed circumstances review by 60 days. See Polythylene Terephthalate Film, Sheet, and Strip from the Republic of Korea: Extension of Time Limits for Final Results of Changed Circumstances Review, 73 FR 6931 (February 6, 2008).

This review covers subject merchandise manufactured and exported by Kolon. The products covered by this order are all gauges of PET film, sheet and strip (see “Scope of the Review” section below). The period of review (POR) is July 1, 2005 through June 30, 2006. Based on our analysis of the comments received, we have made changes in the margin calculation. Therefore, the final results differ from the preliminary results. We determine that Kolon sold subject merchandise at less than normal value (NV) during the POR, and hereby reinstate Kolon in the order. The final weighted-average dumping margin is listed below in the section entitled “Final Results of Review.”

EFFECTIVE DATE: April 3, 2008.

FOR FURTHER INFORMATION CONTACT: Michael J. Heaney or Robert James, AD/CVD Operations, Office 7, Import Administration, International Trade Administration, U.S. Department of Commerce, 14th Street and Constitution Avenue, NW., Washington, DC 20230; telephone: (202) 482-4475 or (202) 482-0649, respectively.

SUPPLEMENTARY INFORMATION:

Background

On October 2, 2007, the Department published in the Federal Register the preliminary results of changed circumstances review and intent to reinstate Kolon in the antidumping order on PET film from Korea. See Preliminary Results. This review covers sales of subject merchandise by Kolon. The POR is July 1, 2005 through June 30, 2006.

We invited interested parties to comment on the preliminary results of review. On November 5, 2007, we received comments from Kolon and the petitioners (DuPont Teijin Films, Mitsubishi Polyester Film, Inc, and Toray Plastics (America) Inc.). On November 13, 2007, Kolon and the Petitioners filed rebuttal comments. At the request of Kolon, we held a hearing on this changed circumstances review on November 21, 2007. On February 6, 2008, we extended the time frame for completion of this changed circumstances review by 60 days. The Department has conducted this changed circumstances review in accordance with section 751(b) of the Tariff Act of 1930, as amended (the Act).

Scope of the Order

Imports covered by this review are shipments of all gauges of raw, pretreated, or primed polyethylene terephthalate film, sheet, and strip, whether extruded or coextruded. The films excluded from this review are metallized films and other finished films that have had at least one of their surfaces modified by the application of a performance enhancing resinous or inorganic layer of more than 0.00001 inches (0.254 micrometers) thick. PET film is currently classifiable under Harmonized Tariff Schedule (HTS) subheading 3920.62.00.90 The HTS subheading is provided for convenience and for customs purposes. The written description remains dispositive as to the scope of the product coverage.

Analysis of Comments Received

All issues raised in the case and rebuttal briefs submitted by Kolon and the Petitioners are addressed in the “Issues and Decision Memorandum” (Decision Memorandum) from Stephen J. Claeys, Deputy Assistant Secretary for Import Administration, to David M. Spooner, Assistant Secretary for Import Administration, dated March 30, 2008, which is adopted by this notice. A list of issues which parties have raised is in the Decision Memorandum and is attached to this notice as an appendix. Parties can find a complete discussion of all issues raised in this review and the corresponding recommendations in the Decision Memorandum which is on file in the Central Records Unit, Room 1117, of the main Commerce Building. In addition, a complete version of the Decision Memorandum can be accessed directly on the Web at http://www.ia.ita.doc.gov/frn. The paper copy and the electronic version of the Decision Memorandum are identical in content.

Changes Since the Preliminary Results

Based on our analysis of the comments received, we have made certain changes in the margin calculations. These changes are discussed in the relevant sections of the Decision Memorandum and the Memorandum to the File from Michael J. Heaney dated March 31, 2007 (Analysis Memorandum). Specifically, for these final results:

1) We matched home market and U.S. sales of PET film by their actual thicknesses rather than by thickness ranges.

2) We made a deduction from CEP to account for bank and postal charges incurred by Kolon's U.S. affiliate.

3) We corrected a clerical error in our recalculation of variable cost of manufacture.

Final Results of Review

We determine that the following weighted-average margin percentage exists for the period July 1, 2005 through June 30, 2006:

Manufacturer/Exporter | Margin
Kolon | 1.53 percent

Since we have established that PET film from Korea manufactured and exported by Kolon is being sold at less than NV, Kolon is hereby reinstated in the antidumping order effective on the publication date of this notice. We will advise the U.S. Customs and Border Protection to collect a cash deposit of 1.53 percent on all entries of the subject merchandise exported by Kolon that are entered, or withdrawn from warehouse, for consumption on or after the publication date of these final results. This requirement shall remain in effect until publication of the final results of the next administrative review as to Kolon. There are no changes to the rates applicable to any other companies under this antidumping duty order.

Notification to Interested Parties

The Department will disclose calculations performed in connection with the final results of review within five days of the date of publication of this notice in accordance with 19 CFR 351.224(b).

This notice also serves as a reminder to parties subject to administrative protective orders (APO) of their responsibility concerning the disposition of proprietary information disclosed under APO in accordance with 19 CFR 351.305(a)(3). Timely written notification of the return/disposition of APO materials or conversion to judicial protective order is hereby requested. Failure to comply with the regulations and the terms of an APO is a sanctionable violation.

We are issuing and publishing this determination in accordance with section 751(b)(1) of the Act and 19 CFR 351.216.

Dated: March 28, 2008.
David M. Spooner,
Assistant Secretary for Import Administration.

Appendix-Comments in Decision Memo

1. Authority to reinstate Kolon in the antidumping Order>

2. Whether Changed Circumstances Reviews Are a Suitable Vehicle for Reinstating Previously Revoked Respondents Within an Order

3. Whether Reinstating Revoked Respondents is Consistent with the Court's Decision on Asahi Chemical

4. Authority of Department to Require Kolon to Sign a Reinstatement Agreement>

5. Whether Procedures Applicable to Reviews or Investigations Should Govern this Proceeding

6. Zeroing

7. Model-Match Methodology

8. Calculation of General and Administrative Expenses

9. Calculation of Variable Cost of Manufacture

10. Adjustment for Kolon's Bank and Postal Charges

[FR Doc. E8-6951 Filed 4-2-08; 8:45 am]

BILLING CODE 3510-DS-S